DEPARTMENT OF TRANSPORTATION

Maritime Administration

U.S. Maritime Transportation System National Advisory Committee; Notice of Public Meeting

AGENCY: Maritime Administration, Department of Transportation.

ACTION: Notice.

SUMMARY: The Maritime Administration (MARAD) announces a public meeting of the U.S. Maritime Transportation System National Advisory Committee (MTSNAC) to develop and discuss advice and recommendations for the U.S. Department of Transportation on issues related to the marine transportation system.

DATES: The meeting will be held on Wednesday, September 20, 2023, from 9:00 a.m. to 4:30 p.m. and Thursday, September 21, 2023, from 9:00 a.m. to 4:30 p.m. Eastern Daylight Time (EDT). Requests to attend the meeting must be received by 5:00 p.m. EDT on the prior week, Monday, September 11, 2023, to facilitate entry. Requests for accommodations for a disability must be received by the day before the meeting, Tuesday, September 19, 2023. Those requesting to speak during the public comment period of the meeting must submit a written copy of their remarks to DOT no later than by the prior week, Monday, September 11, 2023. Requests to submit written materials for review during the meeting must also be received by the prior week, Monday, September 11, 2023.

ADDRESSES: The meeting will be held at the DOT Conference Center at 1200 New Jersey Ave. SE, Washington, DC 20590. Any Committee related request should be sent to the person listed in the following section.

FOR FURTHER INFORMATION CONTACT: Capt. Jeffrey Flumignan, Designated Federal Officer, at MTSNAC@dot.gov or (347) 491-2349. Maritime Transportation System National Advisory Committee, 1200 New Jersey Avenue SE W21-307, Washington, DC 20590. Please visit the MTSNAC website at https://www.maritime.dot.gov/outreach/maritime-transportation-system-mts/maritime-transportation-system-national-advisory-0.

SUPPLEMENTARY INFORMATION:

I. Background

The MTSNAC is a Federal advisory committee that advises the U.S. Secretary of Transportation through the Maritime Administrator on issues related to the maritime transportation system. The MTSNAC was established in 1999 and mandated in 2007 by the Energy Independence and Security Act of 2007 (Pub. L. 110-140). The MTSNAC is codified at 46 U.S.C. 50402 and operates in accordance with the provisions of the Federal Advisory Committee Act.

II. Agenda

The agenda will include (1) welcome, opening remarks, and introductions; (2) administrative items; (3) subcommittee break-out sessions; (4) updates to the Committee on the subcommittee work; (5) public comments; (6) discussions relevant to formulate recommendations; and (7) presentation of recommendations. A final agenda will be posted on the MTSNAC internet website at https://www.maritime.dot.gov/outreach/maritime-transportation-system-mts/maritime-transportation-system-national-advisory-0 at least one week in advance of the meeting.

III. Public Participation

The meeting will be open to the public. Members of the public who wish to attend in person must RSVP to the person listed in the FOR FURTHER INFORMATION CONTACT section with your name and affiliation. Seating will be limited and available on a first-come-first-serve basis.

Services for Individuals with Disabilities: The public meeting is physically accessible to people with disabilities. The U.S. Department of Transportation is committed to providing all participants equal access to this meeting. If you need alternative formats or services because of a disability, such as sign language, interpretation, or other ancillary aids, please contact the person listed in the FOR FURTHER INFORMATION CONTACT section.

Public Comments: A public comment period will commence at approximately 11:45 a.m. EST on September 20, 2023, and again on September 21, 2023, at the same time. To provide time for as many people to speak as possible, speaking time for each individual will be limited to three minutes. Members of the public who would like to speak are asked to contact the person listed in the FOR FURTHER INFORMATION CONTACT section. Commenters will be placed on the agenda in the order in which notifications are received. If time allows, additional comments will be permitted. Copies of oral comments must be submitted in writing at the meeting or preferably emailed to the person listed in the FOR FURTHER INFORMATION CONTACT section. Additional written comments are welcome and must be filed as indicated below.

Written comments: Persons who wish to submit written comments for consideration by the Committee must send them to the person listed in the FOR FURTHER INFORMATION CONTACT section.

(Authority: 49 CFR part 1.93(a); 5 U.S.C. 552b; 41 CFR parts 102-3; 5 U.S.C. app. sections 1-16.)

By Order of the Maritime Administrator.
T. Mitchell Hudson, Jr.,
Secretary, Maritime Administration.

Information Memorandum to the Secretary

From: Rear Admiral Ann C. Phillips, USN (Ret.), Maritime Administrator, X-61719.

Prepared by: William (Bill) Paape, Associate Administrator for Ports & Waterways, X-5005.

Subject: Notification of a Public Meeting of the U.S. Maritime Transportation System, National Advisory Committee on September 20th & 21st, 2023.

Summary

DOT Order 1120.3D requires the submission of an information memorandum to the Secretary that briefly describes the committee's upcoming meeting agenda.

The agenda will include (1) welcome, opening remarks, and introductions; (2) administrative items; (3) subcommittee break-out sessions; (4) updates to the Committee on the subcommittee work; (5) public comments; (6) discussions relevant to formulate recommendations for improving the maritime transportation system and (7) presentation of recommendations.

Background

The MTSNAC is a statutory advisory committee responsible for advising the Secretary of Transportation on matters relating to the United States maritime transportation system and its seamless integration with other segments of the transportation system, including the viability of the United States Merchant Marine. The MTSNAC is codified at 46 U.S.C. 50402 and operated in accordance with the Federal Advisory Committee Act and DOT Order 1120.3D. The National Defense Authorization Act for Fiscal Year 2021 (Pub. L. 116-283) amended the MTSNAC's statutory authorization, including changes to the size and membership composition of the Committee. The purpose of MTSNAC is to address matters relating to the U.S. marine transportation system and its seamless integration with other segments of the transportation system, including the viability of the U.S. merchant marine. The MTSNAC shall undertake information-gathering activities, develop technical advice, and present recommendations to the Administrator on matters including, but not limited to, the following:

a. How to strengthen U.S. Maritime capabilities essential to National security and economic prosperity.

b. Ways to ensure the availability of a diverse and inclusive U.S. maritime workforce that will support the sealift resource needs of the National Security Strategy.

c. Ways to support the enhancement of U.S. port infrastructure and performance; and,

d. Ways to enable maritime industry innovation in information, safety, environmental impact, and other areas.

The Committee's work will align with the Agency's mission and primary guiding documents, such as the Goals and Objectives for a Stronger Maritime Nation: A Report to Congress.

Attachments

• Meeting Agenda.

For More Information

Bill Paape, Associate Administrator for Ports & Waterways, 202-748-4641 (cell).

Capt. Jeff Flumignan, Designated Federal Officer, 212-668-2064 (office) or 202-977-8647 (cell).

Agenda

U.S. Maritime Transportation System National Advisory Committee, Wednesday, September 20, 2023

09:00 a.m. Call to Order & Roll Call: Jeff Flumignan, Designated Federal Officer

Item 1 Welcome and comments from the MTSNAC Chairman: Robert “Bob” Wellner, Chairman, Maritime Transportation System National Advisory Committee

Item 2 Chair Guidance and Breakout Session—Breakout Rooms: Staff Liaisons to facilitate breakout sessions and prioritize Issue Areas and Desired Outcomes

Item 3 Reconvene and Update to Chairman: Bob Wellner, Chairman, Maritime Transportation System National Advisory Committee

Item 4 Public Comments (if required): Jeff Flumignan, Designated Federal Official

Item 5 Break for Lunch

Item 6 Sub-Committee Breakout Sessions in Breakout Rooms: Staff Liaisons to facilitate breakout sessions and prioritize Issue Areas and Desired Outcomes

Item 7 Reconvene full Committee and Brief Update Report to Chair by Sub-Committee Chairs (current): Bob Wellner, Chairman, Maritime Transportation System National Advisory Committee

Item 8 Closing Remarks and Adjournment: Bob Wellner—Chairman, Maritime Transportation System National Advisory Committee

U.S. Maritime Transportation System National Advisory Committee, Thursday, September 21, 2023

09:00 a.m. Call to Order & Roll Call: Jeff Flumignan, Designated Federal Official

Item 9 Welcome & Opening Statements: Bob Wellner—Chairman, Maritime Transportation System National Advisory Committee

Item 10 Chair Guidance and Breakout Session—Breakout Rooms: Staff Liaisons to facilitate breakout sessions and prioritize Issue Areas and Desired Outcomes

Item 11 Reconvene and Update to Chairman: Bob Wellner, Chairman, Maritime Transportation System National Advisory Committee

Item 12 Public Comments (if required): Jeff Flumignan, Designated Federal Official

Item 13 Break for Lunch

Item 14 Chair Guidance and Breakout Session—Breakout Rooms: Staff Liaisons to facilitate breakout sessions and prioritize Issue Areas and Desired Outcomes

Item 15 Reconvene and Presentation of Recommendations: Bob Wellner, Chairman, Maritime Transportation System National Advisory Committee

Item 16 Remarks by the Maritime Administrator: Rear Admiral Ann C. Phillips, USN (Ret.), Maritime Administrator

Item 17 Closing Remarks and Way Ahead: William “Bill” Paape, Associate Administrator for Ports and Waterways

Item 18 Closing Remarks and Adjournment: Bob Wellner, Chairman, Maritime Transportation System National Advisory Committee

[FR Doc. 2023-18935 Filed 8-31-23; 8:45 am]

BILLING CODE 4910-81-P